DEPARTMENT OF TRANSPORTATION

Federal Aviation Administration

14 CFR Part 39

[Docket No. FAA-2010-0039; Directorate Identifier 2009-NM-239-AD]

RIN 2120-AA64

Airworthiness Directives; Bombardier, Inc. Model CL-600-1A11 (CL-600), CL-600-2A12 (CL-601), CL-600-2B16 (CL-601-3A, CL-601-3R, and CL-604 Variants (Including CL-605 Marketing Variant)) Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Seven cases of on-ground hydraulic accumulator screw cap or end cap failure have been experienced on CL-600-2B19 (CRJ) aircraft, resulting in loss of the associated hydraulic system and high-energy impact damage to adjacent systems and structure. * * *

* * * * *

A detailed analysis of the systems and structure in the potential line of trajectory of a failed screw cap/end cap for each accumulator * * * has been conducted. It has been identified that the worst case scenario would be failure of one of the brake accumulator screw caps/end caps, resulting in impact damage causing loss of both hydraulic systems No. 2 and No. 3, with consequent loss of both braking and nose wheel steering and the potential for a runway excursion [resulting in damage to the airplane and hazards to persons or property on the ground].

* * * * *

The proposed AD would require actions that are intended to address the unsafe condition described in the MCAI.

DATES: We must receive comments on this proposed AD by March 29, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Christopher Alfano, Aerospace Engineer, Airframe and Mechanical Systems Branch, ANE-171, FAA, New York Aircraft Certification Office, 1600 Stewart Avenue, Suite 410, Westbury, New York 11590; telephone (516) 228-7340; fax (516) 794-5531.

SUPPLEMENTARY INFORMATION:

Comments Invited

We invite you to send any written relevant data, views, or arguments about this proposed AD. Send your comments to an address listed under the ADDRESSES section. Include “Docket No. FAA-2010-0039; Directorate Identifier 2009-NM-239-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2009-39, dated October 27, 2009 (referred to after this as “the MCAI”), to correct an unsafe condition for the specified products. The MCAI states:

Seven cases of on-ground hydraulic accumulator screw cap or end cap failure have been experienced on CL-600-2B19 (CRJ) aircraft, resulting in loss of the associated hydraulic system and high-energy impact damage to adjacent systems and structure. The lowest number of flight cycles accumulated at the time of failure, to date, has been 6991 flight cycles.

Although there have been no failures to date on any CL-600-1A11, CL-600-2A12 or CL-600-2B16 aircraft, the same accumulators as those installed on the CL-600-2B19, Part Numbers (P/N) 08-60163-001, 08-60163-002, 08-60164-001 and 08-60164-002, are installed on some of the aircraft listed in the Applicability section of this directive.

Notes:

1. Earlier accumulators, P/Ns 2770571-102, 2770571-103, 2770571-104 and 2770571-105, were installed in production on the following aircraft: CL-600-1A11 [all Serial Numbers (S/Ns)], CL-600-2A12 (all S/Ns) and CL-600-2B16 (S/Ns 5001 through 5194 and 5301 through 5524 only). These accumulators do not require inspection or replacement. However, if any of the accumulators with the above P/Ns have been replaced in-service by P/Ns 08-60163-001, 08-60163-002, 08-60164-001 and 08-60164-002, these latter accumulators require replacement.

2. The only accumulators ever installed on CL-600-2B16 aircraft, S/Ns 5525 through 5665 and 5701 and subsequent, are P/Ns 08-60163-001, 08-60163-002, 08-60164-001 and 08-60164-002; these accumulators require replacement.

A detailed analysis of the systems and structure in the potential line of trajectory of a failed screw cap/end cap for each accumulator, P/Ns 08-60163-001, 08-60163-002, 08-60164-001 and 08-60164-002, has been conducted. It has been identified that the worst case scenario would be failure of one of the brake accumulator screw caps/end caps, resulting in impact damage causing loss of both hydraulic systems No. 2 and No. 3, with consequent loss of both braking and nose wheel steering and the potential for a runway excursion [resulting in damage to the airplane and hazards to persons or property on the ground].

This directive gives instructions to perform identification and records checks, where applicable, and replace accumulators, P/Ns 08-60163-001, 08-60163-002, 08-60164-001 and 08-60164-002, within the time compliance specified.

You may obtain further information by examining the MCAI in the AD docket.

Relevant Service Information

Bombardier has issued Service Bulletins 600-0742, 601-0597, 604-29-008, and 605-29-001, all Revision 01, all dated July 6, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 340 products of U.S. registry. We also estimate that it would take about 20 work-hours per product to comply with the basic requirements of this proposed AD. The average labor rate is $85 per work-hour. Required parts would cost about $7,717 per product. Where the service information lists required parts costs that are covered under warranty, we have assumed that there will be no charge for these costs. As we do not control warranty coverage for affected parties, some parties may incur costs higher than estimated here. Based on these figures, we estimate the cost of the proposed AD on U.S. operators to be $3,201,780, or $9,417 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2010-0039; Directorate Identifier 2009-NM-239-AD.

Comments Due Date

(a) We must receive comments by March 29, 2010.

Affected ADs

(b) None.

Applicability

(c) This AD applies to the Bombardier, Inc. airplanes, certificated in any category, identified in paragraphs (c)(1), (c)(2), and (c)(3) of this AD.

(1) Model CL-600-1A11 (CL-600) airplanes, serial numbers 1004 through 1085 inclusive;

(2) CL-600-2A12 (CL-601) airplanes, serial numbers 3001 through 3066 inclusive; and

(3) CL-600-2B16 (CL-601-3A, CL-601-3R, and CL-604) airplanes, serial numbers 5001 through 5194 inclusive, 5301 through 5665 inclusive, and 5701 and subsequent.

Note 1: Some Model CL-600-2B16 (CL-604) airplanes might be referred to by the marketing designation CL-605.

Subject

(d) Air Transport Association (ATA) of America Code 29: Hydraulic power.

Reason

(e) The mandatory continuing airworthiness information (MCAI) states:

Seven cases of on-ground hydraulic accumulator screw cap or end cap failure have been experienced on CL-600-2B19 (CRJ) aircraft, resulting in loss of the associated hydraulic system and high-energy impact damage to adjacent systems and structure. The lowest number of flight cycles accumulated at the time of failure, to date, has been 6991 flight cycles.

Although there have been no failures to date on any CL-600-1A11, CL-600-2A12 or CL-600-2B16 aircraft, the same accumulators as those installed on the CL-600-2B19, Part Numbers (P/N) 08-60163-001, 08-60163-002, 08-60164-001 and 08-60164-002, are installed on some of the aircraft listed in the Applicability section of this directive.

Notes:

1. Earlier accumulators, P/Ns 2770571-102, 2770571-103, 2770571-104 and 2770571-105, were installed in production on the following aircraft: CL-600-1A11 [all Serial Numbers (S/Ns)], CL-600-2A12 (all S/Ns) and CL-600-2B16 (S/Ns 5001 through 5194 and 5301 through 5524 only). These accumulators do not require inspection or replacement. However, if any of the accumulators with the above P/Ns have been replaced in-service by P/Ns 08-60163-001, 08-60163-002, 08-60164-001 and 08-60164-002, these latter accumulators require replacement.

2. The only accumulators ever installed on CL-600-2B16 aircraft, S/Ns 5525 through 5665 and 5701 and subsequent, are P/Ns 08-60163-001, 08-60163-002, 08-60164-001 and 08-60164-002; these accumulators require replacement.

A detailed analysis of the systems and structure in the potential line of trajectory of a failed screw cap/end cap for each accumulator, P/Ns 08-60163-001, 08-60163-002, 08-60164-001 and 08-60164-002, has been conducted. It has been identified that the worst case scenario would be failure of one of the brake accumulator screw caps/end caps, resulting in impact damage causing loss of both hydraulic systems No. 2 and No. 3, with consequent loss of both braking and nose wheel steering and the potential for a runway excursion [resulting in damage to the airplane and hazards to persons or property on the ground].

This directive gives instructions to perform identification and records checks, where applicable, and replace accumulators, P/Ns 08-60163-001, 08-60163-002, 08-60164-001 and 08-60164-002, within the time compliance specified.

Compliance

(f) You are responsible for having the actions required by this AD performed within the compliance times specified, unless the actions have already been done.

Actions

(g) Do the following actions as applicable.

(1) Within 50 flight hours after the effective date of this AD, inspect to determine the part numbers of the system accumulators numbers 1, 2, and 3 and brake accumulators numbers 2 and 3 that are installed on the airplane. A review of airplane maintenance records is acceptable in lieu of this inspection if the part number of the accumulator can be conclusively determined from that review. If all of the installed accumulators have P/N 2770571-102, 2770571-103, 2770571-104, or 2770571-105, no further action is required by this AD.

(2) At the applicable time in paragraph (g)(2)(i), (g)(2)(ii), or (g)(2)(iii) of this AD, replace the accumulator with a new accumulator with the same part number, in accordance with the Accomplishment Instructions of the applicable service bulletin listed in Table 1 of this AD.

Table 1—Service Bulletins
Airplane model— | Bombardier Service Bulletin— | Revision— | Dated—
CL-600-1A11 (CL-600) | 600-0742 | 01 | July 6, 2009.
CL-600-2A12 (CL-601) | 601-0597 | 01 | July 6, 2009.
CL-600-2B16 (CL-601-3A, CL-601-3R variant)
CL-600-2B16 (CL-604 variant) | 604-29-008 | 01 | July 6, 2009.
CL-600-2B16 (CL-605) | 605-29-001 | 01 | July 6, 2009.

(i) For each accumulator (P/Ns 08-60163-001, 08-60163-002, 08-60164-001, and 08-60164-002) that has accumulated more than 3,650 total flight cycles as of the effective date of this AD, replace the accumulator within 100 flight cycles after the effective date of this AD.

(ii) For each accumulator (P/Ns 08-60163-001, 08-60163-002, 08-60164-001, and 08-60164-002) that has accumulated 3,650 total flight cycles or fewer as of the effective date of this AD, replace the accumulator before the accumulation of 3,750 total flight cycles on the accumulator.

(iii) For each accumulator (P/Ns 08-60163-001, 08-60163-002, 08-60164-001, and 08-60164-002) for which it is not possible to determine the number of flight cycles accumulated, replace the accumulator within 100 flight cycles after the effective date of this AD.

(3) Thereafter, before the accumulation of 3,750 total flight cycles on any accumulator having P/N 08-60163-001, 08-60163-002, 08-60164-001, or 08-60164-002, replace the accumulator with a new accumulator having the same part number, in accordance with the Accomplishment Instructions of the applicable service bulletin listed in Table 1 of this AD.

(4) Replacement of an accumulator with a new accumulator having the same part number is also acceptable for compliance with the requirements of paragraph (g)(2) of this AD, if done before the effective date of this AD in accordance with the applicable service bulletin listed in Table 2 of this AD:

Table 2—Previous Service Bulletins
Airplane model— | Bombardier Service Bulletin— | Dated—
CL-600-1A11 (CL-600) | 600-0742 | November 10, 2008.
CL-600-2A12 (CL-601) | 601-0597 | November 10, 2008.
CL-600-2B16 (CL-601-3A, CL-601-3R variant)
CL-600-2B16 (CL-604 variant) | 604-29-008 | November 10, 2008.
CL-600-2B16 (CL-605) | 605-29-001 | November 10, 2008.

FAA AD Differences

Note 2: This AD differs from the MCAI and/or service information as follows:

(1) The MCAI specifies that certain airplanes do not need to be inspected for the part number; however, this AD requires that inspections be done on all airplanes to determine the part number.

(2) The MCAI specifies to record the number of flight cycles accumulated on each affected part. This AD does not require that operators record the number of flight cycles.

Other FAA AD Provisions

(h) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York, 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Canadian Airworthiness Directive CF-2009-39, dated October 27, 2009, and the service bulletins listed in Table 1 of this AD, for related information.

Issued in Renton, Washington, on February 5, 2010.
Stephen P. Boyd,
Acting Manager, Transport Airplane Directorate, Aircraft Certification Service.

[FR Doc. 2010-2993 Filed 2-11-10; 8:45 am]

BILLING CODE 4910-13-P